DEPARTMENT OF TRANSPORTATION

Federal Motor Carrier Safety Administration

[Docket No. FMCSA-2010-0380]

Agency Information Collection Activities; Revision of a Currently-Approved Information Collection Request: Training Certification for Drivers of Longer Combination Vehicles

AGENCY: Federal Motor Carrier Safety Administration (FMCSA), DOT.

ACTION: Notice and request for comments.

SUMMARY: In accordance with the Paperwork Reduction Act of 1995 (PRA), FMCSA announces its plan to submit the Information Collection Request (ICR) described below to the Office of Management and Budget (OMB) for its review and approval. The FMCSA requests approval to revise and extend an information collection request (ICR) entitled, “Training Certification for Drivers of Longer Combination Vehicles.” This ICR is necessary because the training certificates drivers are required to present to prospective employers serve as proof the drivers have successfully completed the training to operate Longer Combination Vehicles (LCVs) safely on the Nation's highways. Motor carriers are required to maintain a copy of the training certification in each LCV driver's qualification file, which may be reviewed by Federal or State enforcement officials. This ICR is being revised due to an anticipated increase in the estimated number of LCV drivers submitting training certificates to employers resulting in a change to the estimated information collection burden for this training task. On September 9, 2010, FMCSA published a Federal Register notice allowing for a 60-day comment period on the ICR. No comment was received.

DATES: Please send your comments by January 3, 2011. OMB must receive your comments by this date in order to act quickly on the ICR.

ADDRESSES: All comments should reference Federal Docket Management System (FDMS) Docket Number FMCSA-2010-0380. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street, NW., Washington, DC 20503.

FOR FURTHER INFORMATION CONTACT: Mr. Thomas Yager, Chief, Driver and Carrier Operations Division, Department of Transportation, Federal Motor Carrier Safety Administration, West Building 6th Floor, 1200 New Jersey Avenue, SE., Washington, DC 20590. Telephone: 202-366-4325; e-mail tom.yager@dot.gov.

SUPPLEMENTARY INFORMATION:

Title: Training Certification for Drivers of Longer Combination Vehicles.

OMB Control Number: 2126-0026.

Type of Request: Revision of a currently-approved information collection.

Respondents: Drivers who complete LCV training each year, current LCV drivers who submit the LCV Driver-Training Certificate to a prospective employer, and motor carriers receiving and filing the certificates.

Estimated Number of Respondents: 31,500 drivers and motor carriers (700 new LCV drivers plus 15,050 current LCV drivers plus 15,750 motor carriers).

Estimated Number of Responses: 31,500 (700 new LCV drivers plus 15,050 current LCV drivers plus 15,750 motor carriers).

Estimated Time per Response: 10 minutes for preparation of LCV Driver-Training Certificate and an additional 10 minutes for the use of the LCV Driver-Training Certificate during the hiring process each year.

Expiration Date: February 28, 2011.

Frequency of Response: At various times during the year.

Estimated Total Annual Burden: 2,742 hours. The total number of drivers per year for whom this activity will occur consists of newly-trained LCV drivers (700) and current LCV drivers changing employers (15,050), a total of 15,750 drivers. The total annual information collection burden is estimated to be 2,742 hours: Preparation of LCV Driver-Training Certificate [700 newly trained LCV drivers × 10 minutes ÷ 60 minutes], and use of the certificate during the hiring process [15,750 total LCV drivers × 10 minutes ÷ 60 minutes].

Background: Section 4007(b) of the Motor Carrier Act of 1991 (Title IV of the Intermodal Surface Transportation Efficiency Act of 1991 (ISTEA), Public Law 102-240, 105 Stat. 1914, 2152; 49 U.S.C. 31307) requires the Secretary of Transportation to establish Federal minimum training requirements for drivers of LCVs. The responsibility for implementing the statutory requirement was subsequently delegated to FMCSA (49 CFR 1.73). The FMCSA, in a final rule entitled, “Minimum Training Requirements for Longer Combination Vehicle (LCV) Operators and LCV Driver-Instructor Requirements” adopted implementing regulations for minimum training requirements for the operators of LCVs (March 30, 2004; 69 FR 16722).

The 2004 final rule created an information collection burden concerning the certification of new, current and non-grandfathered LCV drivers. An LCV is any combination of a truck-tractor and two or more semi-trailers or trailers, which operates on the National System of Interstate and Defense Highways (as defined in 23 CFR 470.107) and has a gross vehicle weight greater than 80,000 pounds. The purpose of this rule is to enhance the safety of LCV operations on our nation's highways.

By regulation, motor carriers cannot allow a driver to operate an LCV without ensuring that the driver has been properly trained in accordance with the requirements of 49 CFR 380.113. LCV drivers must present their LCV Driver-Training Certificate to prospective employers as proof of qualification to drive LCVs. Motor carriers must maintain a copy of the LCV Training Certificate in order to be able to show Federal, State or local officials that drivers operating LCVs are certified to do so.

Definitions: The LCV training regulations under 49 CFR part 380 are applicable only to drivers of “longer combination vehicles,” defined as “any combination of a truck-tractor and two or more trailers or semi-trailers, which operate[s] on the National System of Interstate and Defense Highways (defined in 23 CFR 470.107) with a gross vehicle weight greater than 80,000 pounds” (49 CFR 380.105).

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this information collection.

Issued on: November 23, 2010.
Kelly Leone,
Associate Administrator, Research and Information Technology.

[FR Doc. 2010-30382 Filed 12-2-10; 8:45 am]

BILLING CODE 4910-EX-P